DEPARTMENT OF TRANSPORTATION

Federal Railroad Administration

[Docket No. FRA-2000-7257]

Notice No. 39; Railroad Safety Advisory Committee; Notice of Meeting

AGENCY: Federal Railroad Administration (FRA), Department of Transportation (DOT).

ACTION: Notice of the Railroad Safety Advisory Committee (RSAC) meeting.

SUMMARY: FRA announces the next meeting of the RSAC, a Federal Advisory Committee that develops railroad safety regulations through a consensus process. The RSAC meeting topics include opening remarks from the FRA Administrator, a discussion panel on lessons learned during the ten years RSAC has existed, and the report on the Safety of Remote Control Locomotive Operations. Status reports will be given on the Passenger Safety, Roadway Worker, Continuous Welded Rail, and Locomotive Standards working groups. The Committee will be asked to vote to accept a task on railroad security.

DATES: The meeting of the RSAC is scheduled to commence at 9:30 a.m., and conclude at 4 p.m., on Thursday, May 18, 2006.

ADDRESSES: The meeting of the RSAC will be held at the Wyndham Washington, DC, 1400 M Street, NW., Washington, DC 20005, (202) 493-1700. The meeting is open to the public on a first-come, first-serve basis, and is accessible to individuals with disabilities. Sign and oral interpretation can be made available if requested 10 calendar days before the meeting.

FOR FURTHER INFORMATION CONTACT: Patricia Butera, RSAC Coordinator, FRA, 1120 Vermont Avenue, NW., Stop 25, Washington, DC 20590, (202) 493-6212 or Grady Cothen, Deputy Associate Administrator for Safety Standards and Program Development, FRA, 1120 Vermont Avenue, NW., Mailstop 25, Washington, DC 20590, (202) 493-6302.

SUPPLEMENTARY INFORMATION: Pursuant to Section 10(a)(2) of the Federal Advisory Committee Act (Pub. L. 92-463), FRA is giving notice of a meeting of the RSAC. The meeting is scheduled to begin at 9:30 a.m., and conclude at 4 p.m., on Thursday, May 18, 2006. The meeting of the RSAC will be held at the Wyndham Washington, DC, 1400 M Street, NW., Washington, DC 20005, (202) 493-1700. RSAC was established to provide advice and recommendations to the FRA on railroad safety matters. Currently, the Committee consists of 48 individual voting representatives and five associate representatives drawn from among 30 organizations representing various rail industry perspectives, two associate representatives from the agencies with railroad safety regulatory responsibility in Canada and Mexico, and other diverse groups. Staffs of the National Transportation Safety Board and the Federal Transit Administration also participate in an advisory capacity. The Committee's charter must be renewed by May 17, at which time it is anticipated that proposed changes to the membership will be approved. The changes include the addition of one voting seat for the Transportation Security Administration and five voting seats for hazardous materials shippers and manufacturers.

See the RSAC Web site for details on pending tasks at: http://rsac.fra.dot.gov/. Please refer to the notice published in the Federal Register on March 11, 1996, (61 FR 9740) for more information about the RSAC.

Issued in Washington, DC, on May 1, 2006.
Grady C. Cothen, Jr.,
Deputy Associate Administrator for Safety Standards and Program Development.

[FR Doc. E6-6787 Filed 5-4-06; 8:45 am]

BILLING CODE 4310-55-P